DEPARTMENT OF LABOR

Employment & Training Administration

Office of Policy Development Evaluation and Research; Call for Papers; Biennial National Research Conference on “Workforce Investment Issues in the United States”; Washington, DC June 4-5, 2003

Summary: The Employment and Training Administration (ETA) of the U.S. Department of Labor (DOL) is the federal government agency responsible for implementing a national workforce investment and security system that enables workers and employers to compete and succeed in an ever-changing economy. This task is accomplished through the provision of world class labor market information, labor exchange services, job search assistance, training, and unemployment insurance benefits. These programs assist in the management of the risks associated with unemployment, declining income and skill shortages. They help workers in their search for work and their efforts to upgrade their human capital. They help employers find new employees who meet their skill requirements and upgrade the skills of their incumbent workers.

In 1998, the Workforce Investment Act, the nation's most comprehensive effort at streamlining and transforming public employment, job training and education programs and agencies into a system that meets the skill needs of today's economy, was passed. The implementation of the Workforce Investment Act (WIA) of 1998 combines a variety of workforce development programs and initiatives under one umbrella—the One-Stop System—to effectively serve the needs of job-seekers, workers and employers in the changing workforce development environment at the onset of the 21st century economy.

Under the provisions of the WIA, the Secretary of Labor is required every two years to prepare a five-year research plan for research, pilot and demonstration initiatives. This research plan reflects a strategic vision for research efforts based upon input from stakeholders in employment and training research, a review of recent efforts, an identification of areas where future research may be needed, and a review of possible research methodologies.

In light of major changes in the macro-economy that have taken place in the areas of technological transformation, increasing globalization and changing demographics over the recent years, and the resulting effects of rising workforce insecurity, the Employment and Training Administration will hold its second national research conference since the enactment of WIA. The conference will focus on issues related to trends, challenges and impacts of the macro-economy to workforce investment, significance of recent changes in workforce investment, workforce competitiveness in the global economy, changing business requirements, workforce security in our new economy, and major policy options to increase productivity by meeting the skill needs of business and promoting economic opportunities for the United States workforce. A plenary session is planned to discuss the soon-to-be published 2002-2007 plan and lay the groundwork for the 2004-2009 research plan.

This is a call for empirical/non-empirical papers related to workforce investment issues. ETA is seeking recently completed papers and papers that will be completed prior to the conference. We encourage contributions by researchers from academia, state or local agencies, business organizations, labor associations, research consulting firms and other relevant organizations. Possible topics may include, but are not limited to:

• Workforce Investment Act (program implementation and administration of adult, dislocated worker and youth programs; issues relating to WIA reauthorization).

• Skills Requirements of Employers (skills needed by employers in particular sectors and industries, the effect of new technologies, including the internet and e-commerce, on skill needs of employers).

• Changes in the Structure and Organization of Work (changes in tenure and the rise of contingent work arrangements).

• Effect of Contingent Work on Hiring Practices (the effect of hiring practices of employers and the job search behavior of individuals).

• Role of Intermediaries in the Labor Market (whether intermediaries offer new approaches and techniques that can be adapted by the public-sector employment and training community).

• Adaptability of the Unemployment Insurance Program to an evolving U.S. economy. (program administration, coverage, eligibility, benefit adequacy, benefit duration, recipiency, benefit financing, economic stabilization, special populations and changing work patterns).

• Changes in Wages and Compensation (effect of education on workers' earnings).

• Wages and Compensation Trends (recent trends in the receipt of benefits, including health insurance and retirement benefits) Interventions (employment and training intervention responses to wage and compensation trends).

• Impact of technology, Internet and Labor Market Information on labor exchange processes.

• Education—Workforce Training Continuum (appropriate roles of public K-12 and higher education integrated with Workforce Investment System).

Time and Place: The conference will be held from 1 p.m. to 5 p.m. on June 4, 2003 and from 9 a.m. to 4:30 p. m. on June 5, 2003 at the Holiday Inn, Capital Hill, 550 C Street, SW., Washington, DC 20024.

Submission of Papers: All papers submitted will be reviewed by a panel of DOL experts in the workforce development arena and presenters will be notified if their papers are selected. Papers reporting on research and development, evaluation studies, pilot efforts, or applied practices are encouraged. Selected papers selected for the conference will be published as part of the ETA Occasional Paper Series. Travel and accommodation for invited presenters will be paid by the Employment and Training Administration. If interested, please submit your paper and abstract if possible in hard copy and diskette/CD (Word) by March 1, 2003. Papers should be doubled-spaced and single sided. You will be notified by April 4, 2003, if your paper is selected; you will have to confirm your attendance by April 15, 2001. Please send your papers and abstract to the logistical contractor for this contract, HMA Associates, Inc., 1680 Wisconsin Avenue, NW., 2nd Floor, Washington, DC, 20007, Attn: Peggie Edwards-Jefferies. She may be reached at 202-342-8258. We also encourage submitting abstracts for papers that have not yet been completed, but will be completed before the deadline for submission of papers.

Public Participation: This Conference is open to the public; there is no registration fee. For registration information, please send name, address, e-mail address, affiliation, and telephone number to H.M.A Associates, Inc., 1680 Wisconsin Avenue, NW., 2nd Floor, Washington, DC, 20007, Attn: Peggie Edwards-Jefferies or email them to hmaassociates.com.

Signed at Washington, DC, this 5th day of February.
Gerard F. Fiala,
Administrator, Office of Policy Development, Evaluation and Research.

[FR Doc. 03-3559 Filed 2-12-03; 8:45 am]

BILLING CODE 4510-30-P